DEPARTMENT OF HEALTH AND HUMAN SERVICES

Centers for Disease Control and Prevention

[PA #00130 et al.]

Disease, Disability and Injury Prevention and Control Special Emphasis Panel: HIV/AIDS Prevention Program Development and Technical Assistance Collaboration With Countries Targeted by the Leadership and Investment in Fighting the Epidemic (LIFE) Initiative, et al.

Pursuant to section 10(a)(2) of the Federal Advisory Committee Act (P. L. 92-463), the Centers for Disease Control and Prevention (CDC) announces the following meeting.

Name: Disease, Disability and Injury Prevention and Control Special Emphasis Panel: HIV/AIDS Prevention Program Development and Technical Assistance Collaboration with Countries Targeted by the Leadership and Investment in Fighting the Epidemic (LIFE) Initiative, PA #00130; Prevention Program Development and Technical Assistance to Improve Blood Safety and Reduce the Impact of HIV/AIDS in Countries Targeted by the LIFE Initiative, PA #00133; LIFE—Global AIDS Activity, PA #00134; HIV/AIDS Prevention Program Development and Technical Assistance Collaboration for Faith Communities in Countries Targeted by the LIFE Initiative, PA #00137; Youth-Focused HIV/AIDS Prevention Program Development and Technical Assistance Collaboration with Countries Targeted by the LIFE Initiative, PA #00138; and HIV/AIDS Prevention Program Development and Technical Assistance Collaboration for Public Health Laboratory Science with Countries Targeted by the LIFE Initiative, PA #00139.

Times and Dates: 10:00 a.m.-Noon, September 13, 2000 (Open); Noon-4:30 p.m., September 13, 2000 (Closed); 8:30 a.m.-4:30 p.m., September 14, 2000 (Closed).

Place: Centers for Disease Control and Prevention, 12 Corporate Square Boulevard, Building 12, Conference Rooms 1203 and 1307, Atlanta, GA 30329.

Status: Portions of the meeting will be closed to the public in accordance with provisions set forth in section 552b(c)(4) and (6), Title 5 U.S.C., and the Determination of the Associate Director for Management and Operations, CDC, pursuant to P. L. 92-463.

Matters to be Discussed: The meeting will include the review, discussion, and evaluation of applications received in response to Program Announcements 00130, 00133, 00134, 00137, 00138, 00139.

This notice is published less than 15 days prior to the meeting due to administrative delays.

Contact Person for More Information

Chad Martin, Special Assistant to the Director on Youth and HIV Prevention, Division of HIV/AIDS Prevention, National Center for HIV, STD, and TB Prevention, CDC, Corporate Square Office Park, 8 Corporate Square Boulevard, M/S E35, Atlanta, Georgia 30329, telephone 404/639-5217, e-mail cmartin@cdc.gov.

The Director, Management Analysis and Services Office, has been delegated the authority to sign Federal Register Notices pertaining to announcements of meetings and other committee management activities, for the both the Centers for Disease Control and Prevention and the Agency for Toxic Substances and Disease Registry.

Dated: August 29, 2000.
John C. Burckhardt,
Acting Director, Management Analysis and Services Office, Centers for Disease Control and Prevention.

[FR Doc. 00-22599 Filed 8-30-00; 12:58 pm]

BILLING CODE 4163-18-P